DEPARTMENT OF TRANSPORTATION

National Highway Traffic Safety Administration

[Docket No. NHTSA-2002-12544; Notice 1]

Mercedes-Benz, U.S.A., Inc., Receipt of Application for Decision of Inconsequential Noncompliance

Mercedes-Benz, U.S.A., Inc., (MBUSA) has determined that a limited number of model year 2003 Mercedes-Benz SL-Class, E-Class and CLK-Class vehicles it produced and sold is not in full compliance with 49 CFR 571.135, Federal Motor Vehicle Safety Standard (FMVSS) No. 135, “Passenger Car Brake Systems,” and has filed an appropriate report pursuant to 49 CFR part 573, “Defect and Noncompliance Reports.” MBUSA has also applied to be exempted from the notification and remedy requirements of 49 U.S.C. Chapter 301—“Motor Vehicle Safety” on the basis that the noncompliance is inconsequential to motor vehicle safety.

This notice of receipt of an application is published under 49 U.S.C. 30118 and 30120 and does not represent any agency decision or other exercise of judgment concerning the merits of the application.

The noncompliant vehicles were produced and sold with brake warning indicators that do not meet certain requirements mandated by FMVSS No. 135. Paragraph S5.5.5(a) of FMVSS No. 135 requires that all vehicles be equipped with a brake warning indicator lamp. The standard enumerates specific minimum parameters applicable to the warning:

Each visual indicator shall display a word or words in accordance with the requirements of Standard No. 101 (49 CFR 571.101) [i.e., “Brake”] and this section, which shall be legible to the driver under all daytime and nighttime conditions when activated. Unless otherwise specified, the words shall have letters not less than 3.2 mm (⅛ inch) high and the letters and background shall be of contrasting colors, one of which is red. Words and symbols in addition to those required by Standard No. 101 and this section may be provided for purposes of safety.

The affected vehicles are equipped with a “Brake” indicator warning lamp located in the upper right hand corner of the speedometer display. The letters in the indicator warning “BRAKE” were changed from all upper case letters to mixed upper and lower case letters. As a result, the letters “B” and “k” in the “Brake indicator lamp meet the minimum height requirements of FMVSS No. 135, but the letters “r,” “a,” and “e” are 7/10 mm shorter than the minimum 3.2 mm requirements. MBUSA does not believe that the 7/10 mm difference is discernable by the average driver for the following reasons:

1. The “Brake” warning indicator is still easily recognizable due to its positioning on the dashboard, the color of the indicator and other factors.

2. In addition to the “Brake” warning indicator, each of the affected Mercedes-Benz vehicles is also equipped with a dual screen message center that provides brake system information in a highly visible and audible manner.

MBUSA believes that the noncompliance is inconsequential to motor vehicle safety, and no corrective action is warranted. Interested persons are invited to submit written data, views, and arguments on the application described above. Comments should refer to the docket number and be submitted to: U.S. Department of Transportation, Docket Management, Room PL-401, 400 Seventh Street SW., Washington, DC 20590. It is requested that two copies be submitted.

All comments received before the close of business on the closing date indicated below will be considered. The application and supporting materials, and all comments received after the closing date, will also be filed and will be considered to the extent possible. When the application is granted or denied, notice of the decision will be published in the Federal Register pursuant to the authority indicated below. Comment closing date: August 7, 2002.

(49 U.S.C. 301118, 301120; delegations of authority at 49 CFR 1.50 and 501.8)
Issued on: July 2, 2002.
Stephen R. Kratzke,
Associate Administrator for Safety Performance Standards.

[FR Doc. 02-17011 Filed 7-5-02; 8:45 am]

BILLING CODE 4910-59-P